DEPARTMENT OF ENERGY

Federal Energy Regulatory Commission

[Docket No. CP00-109-000]

Texas Eastern Transmission Corporation; Notice of Request Under Blanket Authorization

March 9, 2000.

Take notice that on March 6, 2000, Texas Eastern Transmission Corporation (Texas Eastern), P.O. Box 1642, Houston, Texas 77251-1642, filed in Docket No. CP00-67-000 a request pursuant to Sections 157.205, 157.208, and 157.216 of the Commission's Regulations under the Natural Gas Act (18 CFR 157.205, 157.208, 157.216) for authorization to construct, operate, and maintain certain replacement facilities on Texas Eastern's existing 30-inch Line No. 16 located in Harris County, Texas as a miscellaneous rearrangement of existing facilities and to abandon by removal that segment of facilities being replaced under Texas Eastern's blanket certificate issued in Docket No. CP82-535-000, pursuant to Section 7(c) of the Natural Gas Act, all as more fully set forth in the request that in on file with the Commission and open to public inspection. This filing may be viewed on the web at http://www.ferc.fed.us/online/rims.htm (call 202-208-2222 for assistance).

Texas Eastern requests authorization to: (i) construct, install, own, operate, and maintain approximately 3,112 feet of 30-inch pipeline on Texas Eastern's Line 16 in the Houston Ship Channel (HSC) from approximately milepost (MP) 341.68 to MP 342.05; (ii) install a 30-inch valve at MP 340.68 upstream of the rearrangement segment; (iii) remove and abandon approximately 3,176 feet of the existing 30-inch Line No. 16 mainline of which approximately 2,342 feet will be removed and 834 feet will be abandoned in place; and (iv) remove approximately 1,989 fee of the existing 30-inch auxiliary Line No. 16. Texas Eastern declares that the replacement of the facilities is necessary to accommodate the deepening and widening of the HSC as proposed by the Port of Houston.

Texas Eastern states that the estimated cost of the HSC pipeline replacement and removals is approximately $8,662,000.

Texas Eastern declares that its proposal herein will be accomplished without detriment or disadvantage to Texas Eastern's customers.

Any questions regarding the application should be directed to Steven E. Tillman at (713) 627-5113, Texas Eastern Transmission Corporation, P.O. Box 1642, Houston, Texas 77251-1642.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act.

David P. Boergers,
Secretary.

[FR Doc. 00-6311 Filed 3-14-00; 8:45 am]

BILLING CODE 6717-01-M